DEPARTMENT OF THE INTERIOR

Bureau of Indian Affairs

25 CFR Part 169

[156A2100DD/AAKC001030/A0A501010.999900 253G]

RIN 1076-AF20

Rights-of-Way on Indian Land

AGENCY: Bureau of Indian Affairs, Interior.

ACTION: Final rule; extension of effective date and compliance date.

SUMMARY: The Bureau of Indian Affairs (BIA) is announcing the extension of the effective date of the final rule published November 19, 2015 governing rights-of-way on Indian land, which was scheduled to take effect on December 21, 2015, and later extended to March 21, 2016. The final rule will now take effect on April 21, 2016. The BIA is also announcing an extension of the compliance date by which documentation of past assignments must be submitted from the extended date of July 17, 2016, to August 16, 2016. The final rule comprehensively updates and streamlines the process for obtaining Bureau of Indian Affairs (BIA) grants of rights-of-way on Indian land and BIA land, while supporting tribal self-determination and self-governance.

DATES: The effective date of the final rule published on November 19, 2015 (80 FR 72492) is extended until April 21, 2016. The compliance date for submission of documentation of past assignments is extended until August 16, 2016.

FOR FURTHER INFORMATION CONTACT: Ms. Elizabeth Appel, Director, Office of Regulatory Affairs & Collaborative Action, (202) 273-4680; elizabeth.appel@bia.gov.

SUPPLEMENTARY INFORMATION: On November 19, 2015, BIA published a final rule addressing rights-of-way on Indian land and BIA land. See 80 FR 72492. In a document published December 21, 2015, BIA extended the effective date of the rule to March 21, 2016, in response to requests from tribes and industry in order to provide additional time to prepare for implementation to ensure compliance. See 80 FR 79258. BIA is again extending the effective date of the final rule. This document extends the effective date of the final rule to April 21, 2016, and likewise extends the deadline for providing BIA with documentation of past assignments to August 16, 2016. The substance of the rule remains unchanged and this will be the final extension of the effective date.

The BIA has determined that the extension of the effective date and compliance date without prior public notice and comment is in the public interest because it would allow more time for the public to comply with the rule. This is a rule of agency procedure or practice that is exempt from notice and comment rulemaking under 5 U.S.C. 553(b)(A).

Correction

In FR Rule Doc. No. 2015-28548, published November 19, 2015, at 80 FR 72492, make the following corrections:

1. On page 72537, in the center and right columns, in revised § 169.7, remove the date “December 21, 2015” wherever it appears and add in its place “April 21, 2016”.

2. On page 72537, in the right column, in paragraph (d) of revised § 169.7, remove the date “April 18, 2016” and add in its place “August 16, 2016”.

Dated: March 15, 2016.
Lawrence S. Roberts,
Acting Assistant Secretary—Indian Affairs.

[FR Doc. 2016-06269 Filed 3-18-16; 8:45 am]

BILLING CODE 4337-15-P